NATIONAL SCIENCE FOUNDATION

Special Emphasis Panel in Chemistry; Notice of Meeting

In accordance with the Federal Advisory Committee Act (Pub. L. 92-463, as amended), the National Science Foundation announces the following meeting:

Name: Special Emphasis Panel in Chemistry (#1191).

Date and Time: October 23-24, 2000, 8 a.m.-5 p.m.

Place: Orgonne National Lab, Chicago, IL.

Type of Meeting: Closed.

Contact Person: Dr. Joan M. Frye, National Science Foundation contact person, Telephone (703) 292-4953 and Dr. P. James Viccaro, University of Chicago contact person, Telephone (773) 702-1598.

Purpose of Meeting: To provide advice and recommendations concerning a proposal for renewed support of the Institute for Chemistry.

Agenda: Listen to presentations and discuss merits of proposal.

Reason for Closing: The proposal being reviewed includes information of a proprietary or confidential nature, including technical information; and information on personnel. These matters are exempt under 5 U.S.C. 552b(c), (4) and (6) of the Government in the Sunshine Act.

Dated: September 27, 2000.
Karen J. York,
Committee Management Officer.

[FR Doc. 00-25199 Filed 9-29-00; 8:45 am]

BILLING CODE 7555-01-M